DEPARTMENT OF LABOR

Occupational Safety and Health Administration

[Docket No. OSHA-2020-0003]

Advisory Committee on Construction Safety and Health (ACCSH): Charter Renewal

AGENCY: Occupational Safety and Health Administration (OSHA), Labor.

ACTION: Renewal of the ACCSH charter.

SUMMARY: The Secretary of Labor (Secretary) has renewed the charter for ACCSH.

FOR FURTHER INFORMATION CONTACT:

For press inquiries: Mr. Frank Meilinger, Director, OSHA Office of Communications, U.S. Department of Labor; telephone (202) 693-1999; email: meilinger.francis2@dol.gov.

For general information about ACCSH: Mr. Damon Bonneau, OSHA, Directorate of Construction, U.S. Department of Labor; telephone (202) 693-2183; email: bonneau.damon@dol.gov.

SUPPLEMENTARY INFORMATION: The Secretary has renewed the ACCSH charter. The new ACCSH charter will be available to read or download at http://www.regulations.gov (Docket No. OSHA-2020-0003), the federal rulemaking portal. The charter will also be available on the ACCSH page on OSHA's web page at http://www.osha.gov and through the OSHA Docket Office, N-3653, U.S. Department of Labor, 200 Constitution Avenue NW, Washington, DC 20210; telephone (202) 693-2350. Please note: While OSHA's Docket Office is continuing to accept and process requests, due to the COVID-19 pandemic, the Docket Office is closed to the public. In addition, the charter is available for viewing or download at the Federal Advisory Committee Database at http://www.facadatabase.gov. The new charter will expire two years from the filing date.

Congress established ACCSH in Section 107 of the Contract Work Hours and Safety Standards Act (Construction Safety Act (CSA)) (40 U.S.C. 3704(d)(4)), to advise the Secretary in the formulation of construction safety and health standards as well as on policy matters arising under the CSA and the Occupational Safety and Health Act of 1970 (OSH Act) (29 U.S.C. 651 et seq.).

ACCSH operates in accordance with the Federal Advisory Committee Act (FACA), as amended (5 U.S.C. App. 2), and the implementing regulations (41 CFR 102-3 et seq.); and Department of Labor Manual Series Chapter 1-900 (8/31/2020). Pursuant to FACA (5 U.S.C. App. 2, 14(b)(2)), the ACCSH charter must be renewed every two years.

The new charter clarifies the procedures for the formulation of meeting agendas and the creation of Committee subcommittees and work groups.

Authority and Signature

Loren Sweatt, Principal Deputy Assistant Secretary of Labor for Occupational Safety and Health, authorized the preparation of this notice under the authority granted by 29 U.S.C. 655(b)(1) and 656(b), 40 U.S.C. 3704(a)(2), 5 U.S.C. App. 2, Secretary of Labor's Order No. 8-2020 (85 FR 58393), and 29 CFR part 1912.

Signed at Washington, DC, on November 3, 2020.
Loren Sweatt,
Principal Deputy Assistant Secretary of Labor for Occupational Safety and Health.

[FR Doc. 2020-24728 Filed 11-5-20; 8:45 am]

BILLING CODE 4510-26-P